Proclamation 8559 of September 10, 2010

Patriot Day and National Day of Service and Remembrance, 2010

By the President of the United States of America

A Proclamation

Nine years ago, the United States of America suffered an unprecedented national tragedy. On September 11, 2001, nearly 3,000 individuals from across our Nation and from more than 90 others, lost their lives in acts of terrorism aimed at the heart of our country. The Americans we lost came from every color, faith, and station. They were cherished family members, friends, and fellow citizens, and we will never forget them. Yet, against the horrific backdrop of these events, the American people revealed the innate resilience and compassion that marks our Nation. When the call came for volunteers to assist our heroic first responders, countless men and women answered with a massive rescue and recovery effort, offering hope and inspiration amidst tremendous heartbreak. Today we remember those we lost on that dark September day, and we honor the courage and selflessness of our first responders, servicemembers, and fellow citizens who served our Nation and its people in our hour of greatest need.

Throughout America, patriotism was renewed through common purpose and dedicated service in the days and weeks following September 11. Many joined our Armed Forces to protect our country at home and abroad; others chose to serve in their own neighborhoods and communities, lending their skills and time to those in need. Fences and boundaries gave way to fellowship and unity.

In the wake of loss and uncertainty, Americans from every corner of our country joined together to demonstrate the unparalleled human capacity for good. To rekindle this spirit, I signed the Edward M. Kennedy Serve America Act last year, which recognizes September 11 as a National Day of Service and Remembrance. I called upon every American to make an enduring commitment to serve their community and our Nation. The response to that appeal has been inspirational, and last year more than 63 million Americans volunteered in their communities. I encourage all Americans to visit Serve.gov, or Servir.gov for Spanish speakers, for more information and resources on opportunities for service across America.

By any measure, these myriad acts of service have strengthened our country and fostered a new wave of active and engaged citizens of all ages and walks of life. Americans should be particularly proud of the example set by our Nation’s young people, who came of age following the horrors of September 11, yet still believe a truly patriotic idea: that people who love their country can change it. Through selfless acts for country and for one another, patriots in every corner of our Nation continue to honor the memory of those lost on September 11, and they reaffirm our charge to reach for a more perfect Union.

By a joint resolution approved December 18, 2001 (Public Law 107-89), the Congress has designated September 11 of each year as Patriot Day, and by Public Law 111-13, approved April 21, 2009, the Congress has requested the observance of September 11 as an annually recognized National Day of Service and Remembrance.

NOW, THEREFORE, I, BARACK OBAMA, President of the United States of America, do hereby proclaim September 11, 2010, as Patriot Day and National Day of Service and Remembrance. I call upon all departments, agencies, and instrumentalities of the United States to display the flag of the United States at half-staff on Patriot Day and National Day of Service and Remembrance in honor of the individuals who lost their lives on September 11, 2001. I invite the Governors of the United States and the Commonwealth of Puerto Rico and interested organizations and individuals to join in this observance. I call upon the people of the United States to participate in community service in honor of those our Nation lost, to observe this day with appropriate ceremonies and activities, including remembrance services, and to observe a moment of silence beginning at 8:46 a.m. eastern daylight time to honor the innocent victims who perished as a result of the terrorist attacks of September 11, 2001.

IN WITNESS WHEREOF, I have hereunto set my hand this tenth day of September, in the year of our Lord two thousand ten, and of the Independence of the United States of America the two hundred and thirty-fifth.

[FR Doc. 2010-23201

Filed 9-14-10; 11:15 am]

Billing code 3195-W0-P